DEPARTMENT OF COMMERCE

International Trade Administration

International Trade Administration Mission Statement

AGENCY: Department of Commerce, ITA.

ACTION: Notice.

Mission Statement

Aerospace, Defense and Security Trade Mission to Athens, Greece October 7-10, 2008.

Mission Description: The United States Department of Commerce, International Trade Administration, U.S. Commercial Service is organizing an Aerospace, Defense and Security Trade Mission, October 7-10, 2008, to Athens, Greece, with an optional stop in Tel Aviv, Israel, October 5-6, 2008. The mission will coincide with Defendory 2008 in Athens, where U.S. participants will meet with both Greek and Turkish business contacts. Defendory is one of the world's leading exhibitions for sea, land and air defense products and technologies. The trade mission will target a broad range of aerospace, defense, and safety and security products and services, and will consist of customized one-on-one appointments at the Defendory exhibit site between U.S. participants and Greek customers/business partners, as well as Turkish customers/business partners. Delegation members may take advantage of the optional stop in Israel before the mission starts in Greece.

The goal of the mission will be to match participating U.S. companies with pre-screened agents, distributors, representatives, licensees, buyers, and joint venture partners, and where appropriate, arrange for appointments with government officials, traditionally large purchasers of products and services in the highlighted sectors. Consumers in Greece, Turkey and Israel have a strong affinity for U.S. products and services in these sectors.

Commercial Setting

Greece: Greece's allocation of gross domestic product (GDP) for defense is the highest in the European Union (EU). A partner in the North Atlantic Treaty Organization (NATO), Greece is continuing to modernize the Hellenic Armed Forces and shift its force structure toward smaller, more flexible formations. To achieve this, the government has announced plans to spend more than $3 billion by 2011, in addition to the $8 billion it has spent in recent years on defense equipment. Greece provides U.S. defense firms with excellent opportunities as it pursues a number of high-priority programs, including new frigates, helicopters, missiles, fighters and “new generation” trainer aircraft.

The necessity for more and better security has resulted in increased market potential associated with the upgrading of Greek airport and port security, to be funded from the Greek national budget, EU funds, the Interregional Plan, and public-private partnerships. Opportunities for U.S. firms exist in a number of airport and port safety and security projects. The Greek civil aviation structure consists of 82 commercial airports, of which 38 are under the jurisdiction of the Hellenic Civil Aviation Authority (HCAA). According to the HCAA, total airport traffic in Greece through 2006 reached 40 million travelers, and is expected to increase to more than 50 million by 2010. Greece has 123 cargo/passenger ports that handle passenger ships, cruise ships and cargo. The main ports, Piraeus and Thessaloniki, serve as a gateway to the Balkans.

Significant developments that will influence demand for port safety and security include equipment upgrades associated with the Container Security Initiative (CSI) and/or International Ship and Port Facility Security Code (ISPS), as well as the HCAA's plans for security upgrades. The ISPS Code defines mandatory measures to strengthen maritime security and prevent acts of terrorism against shipping and port facilities.

One offshoot of these requirements is the Greek Ministry of Merchant Marine's plans to announce, by the end of 2008, an international tender worth more than $496 million for the design, implementation and operation of a fully integrated security system for 12 Greek national ports. The system will include surface, underwater and perimeter security according to the ISPS Code. A second tender will follow to cover the remaining Greek ports. U.S. companies enjoy an excellent reputation for high-quality equipment, advanced technology, superior technical proficiency, and expertise in the design and execution of large-scale security projects. Innovative security products are in high demand.

Turkey: Located at the crossroads of Europe, Asia and the Middle East, Turkey is prepared to defend its national interest along many different fronts. Turkey maintains the second largest land force in NATO and second largest fleet of F-16s, second only to the United States. Turkey's role in NATO—including support of security and humanitarian operations, as well as regional crisis management—is one of the cornerstones of the nation's relationship with the United States. The FY 2007 Ministry of Defense (MOD) budget resulted in a 12% increase compared to FY 2006 and reached 13.2 billion in New Turkish Liras, constituting 2.1% of the gross national product (GNP). This does not include spending by either the Ministry of Interior's Gendarme or the Under secretariat for Defense Industry procurements. Potential major procurements in 2008 are expected to include frigates, submarines, coastal surveillance radars, tactical wheeled vehicles, satellites, and air defense systems.

The safety and security market in Turkey is new and developing rapidly. The market size was estimated to be $3 billion in 2007—approximately $2.5 billion of which was devoted to physical security services such as private security guards, patrols, and training. Biometrics, closed circuit systems (CCTV), access detectors, and X-ray equipment are among the best prospects for equipment.

Israel: In the homeland security, defense and aerospace sectors, U.S. exporters are the preferred suppliers for Israeli companies. The attractive dollar exchange rate, sophisticated technologies, cultural affinities, and strong political and commercial bonds between the United States and Israel are the main factors why Israeli manufacturers look to do business with U.S. firms. Israel's security-awareness and high level of preparedness are the driving forces for the development of the country's cutting edge security industry, which in 2007 produced an estimated $4.5 billion in equipment and services.

Israel is an attractive market for U.S. manufacturers of high-end equipment and of components that can be integrated into Israeli systems. The import market, estimated at $510 million has a 70% U.S. market share. U.S. security equipment is often used for sensitive applications, by high-security industries and for key infrastructures and installations. The market offers good opportunities for U.S. exporters of high-quality detection and screening systems, CCTV, sensors, biometric solutions, x-ray systems, and non-lethal weapons. For U.S. exporters of defense systems and components, Israel offers excellent market potential. Estimated total market size is $3.5 billion, with imports totaling $2.5 billion. Over 70 percent of the $5.3 billion local production is exported. Import of defense items from the United States amounts to approximately $2 billion. Many procurements are made with Foreign Military Financing (FMF), giving a distinct advantage to U.S. manufacturers, as FMF requirements call for 51-percent U.S. content in purchased equipment.

Israel has a large and modern air force, successful international and regional airlines, hundreds of registered general aviation and sport aircraft, and an advanced aerospace industry. Israeli defense companies have developed and manufactured combat aircraft, business jets, missiles, unmanned aerial vehicles, space launchers, and satellites. Over the years, Israel has become a world leader in many aerospace fields.

Mission Goals: The trade mission's goal is to provide market entry or increased sales in the mission markets for U.S. aerospace, defense and/or safety and security firms, as well as first-hand market information and access to potential business partners.

Mission Scenario: The delegation will spend five days in Athens. In cooperation with CS Ankara and CS Istanbul, Turkish distributors, agents and other appropriate business partners will be invited to meet with the mission participants in Athens. Mission participants may participate in an optional mission stop in Tel Aviv, Israel, where the CS will arrange one-on-one appointments with potential Israeli customers and/or business partners and provide briefings on the Israeli market. Companies opting to stop first in Israel will pay Gold Key Service fees directly to CS Tel Aviv.

In Greece, the U.S. Commercial Service will provide a market briefing highlighting opportunities in the aerospace, defense and/or safety and security sectors; schedule one-on-one appointments at the Defendory show site with potential Greek and Turkish business partners; participate in the Defendory hospitality events to introduce participants to key business and industry officials; provide interpreters as needed; and provide hotel/airport transfers for the mission participants.

Criteria for Participation

• Relevance of the company's business line to the mission's scope and goals.

• Potential for business in the selected markets.

• Timeliness of the company's completed application, participation agreement, and payment of the mission participation fee.

• Provision of adequate information on the company's products and/or services and communication of the company's primary objectives to facilitate appropriate matching with potential business partners.

• Certification that the firm's products and/or services are manufactured or produced in the United States or if manufactured/produced outside of the United States, the product/service should be marketed under the name of a U.S. firm and have U.S. content representing at least 51 percent of the value of the finished good or service.

Any partisan political activities of an applicant, including political contributions, will be entirely irrelevant to the selection process. Recruitment will be conducted on a first come-first served basis and will close approximately six weeks prior to the mission. The mission participation fee will be U.S. $3,000 per company. The rates for the Israel option are $735 for the first day of appointments and $360 for the second day of appointments. The participation fee does not include the cost of travel, lodging, and most meals. Participation is open to the first 10 qualified U.S. companies. Applications received after the recruitment deadline will be considered only if space and scheduling constraints permit.

Contact Information

Aerospace/Defense:

Diane Mooney, Aerospace and Defense Project Manager, U.S. Commercial Service, Seattle, Washington 98121, Phone: 206-553-5615, ext. 236, dmooney@mail.doc.gov.

Safety and Security:

Suzette Nickle, Safety and Security Project Manager, U.S. Commercial Service, 1625 Broadway, Suite 680, Denver, CO 80202, Phone: 303-844-6623 ext. 16, suzette.nickle@mail.doc.gov.

Nancy Hesser, Phone: 202-482-4663

Nancy Hesser,
Manager, Commercial Service Trade Missions, U.S. Commercial Service, International Trade Administration.

[FR Doc. E8-5934 Filed 3-24-08; 8:45 am]

BILLING CODE 3510-25-P